ENVIRONMENTAL PROTECTION AGENCY

[FRL-6910-2]

Draft Information Products Bulletin Framework Plan for Comment

AGENCY: Environmental Protection Agency (EPA).

ACTION: Notice.

SUMMARY: The Information Products Bulletin (IPB) is a new joint effort between the U.S. Environmental Protection Agency (EPA) and The Environmental Council of the States (ECOS). The purpose of this framework plan is to outline the basis and scope for the development of the IPB. The IPB is proposed to start being published in 2001, and will be published regularly, both in hard copy and on the World Wide Web. It will inform stakeholders and the public about upcoming significant information products being produced by EPA and some of the states. This will include, in some cases, the identification of opportunities for stakeholder and public involvement in the development of such products.

DATES: EPA will accept comments on this draft Information Products Bulletin (IPB) Framework Plan from the date of this notice until January 2, 2001.

ADDRESSES: In order to be considered, comments must be submitted in writing (either by mail or via the IPB website) to EPA using the following address or website address:

Comments can be mailed to: Shelley Fudge, U.S. Environmental Protection Agency, Office of Environmental Information/Office of Information Analysis and Access, Mail Code: 2843, 1200 Pennsylvania Avenue, NW., Washington, D.C. 20460.

Comment Via the Web: Go to www.epa.gov/ipbpages and click on the “How Can I Comment” button on the left, or on “Comments” at the bottom of each page.

FOR FURTHER INFORMATION CONTACT: For further information about the Information Products Bulletin (IPB), please contact Shelley Fudge at (202) 260-8694, Office of Environmental Information, U.S. Environmental Protection Agency, 1200 Pennsylvania Avenue NW, Mail Code 2843, Washington, D.C. 20460.

SUPPLEMENTARY INFORMATION:

Table of Contents

I. What is the Information Products Bulletin?

II. Purpose of the Information Products Bulletin (IPB)

III. Background on Creation of the IPB

IV. Criteria for Including Products in the IPB

V. State Products Included in the IPB

VI. Interim Bulletin Website

VII. Stakeholder and Public Involvement Opportunities During the Development of EPA Significant Information Products

VIII. Stakeholder and Public Involvement Opportunities for State Significant Information Products

IX. IPB Publication Schedule

I. What Is the Information Products Bulletin?

The Information Products Bulletin (IPB) is a joint effort between the U.S. Environmental Protection Agency (EPA) and the Environmental Council of the States (ECOS) to inform stakeholders and the public about upcoming significant information products being produced by EPA and states. ECOS is the national nonprofit, nonpartisan association of state and territorial environmental commissioners.

The Information Products Bulletin will:

• Notify interested parties about soon-to-be-released significant information products produced by EPA and some states.

• Provide an opportunity for stakeholders and the public to comment and/or give us feedback on some of the significant information products described on the list. The Bulletin will provide information about opportunities for stakeholder and/or public involvement during the development of some of the products listed.

• Begin publication in 2001 and will be published every six months.

• Be available on the Web, as well as in hard copy for those who do not have access to the Internet.

A Significant Information Product is:

• A product under development or major modification by EPA which derives from federal, state, local, tribal, and/or other organizations' data, and a state product that is regional or national in scope and aggregates data from more than one state. Such products often generate considerable attention when they use data to describe environmental conditions, trends, potential risks, and/or portray compliance or performance.

A stakeholder is:

• An individual or group who has a vested interest in the development and use of a significant information product. In many cases, stakeholders are likely to be affected by the use of such a product.

II. Purpose of the Information Products Bulletin (IPB)

EPA and the states are committed to ensuring that the significant information products we produce are accurate and useful, and that we clearly characterize the data incorporated into these products. The IPB will provide pre-publication notification of these products, and in some cases, identify opportunities for stakeholder and public involvement.

III. Background on Creation of the IPB

Each year, EPA and the states produce information products for the general public that are derived from federal, state, local, tribal or other organizations' data. These products may include analyses and/or draw conclusions about primary data in order to describe environmental conditions, trends, potential risks, and/or portray environmental compliance or performance.

The IPB has been initiated as one of several efforts by EPA and the states to advance the creation and use of data to enhance public health and environmental protection, inform decision-making, and improve the public's access to information about environmental conditions and trends. Informing the public and providing access to sound environmental information are essential components of a comprehensive environmental protection program. EPA and the states recognize that environmental information should be presented in a format that meets the needs of major stakeholders and the public. It is understood that the IPB is not intended to be the initial or primary notification device for informing state co-regulators about significant new products.

In November 1999, EPA and the Environmental Council of the States (ECOS) hosted a meeting in Chicago titled the “EPA/State Stakeholder Forum on Public Information Policies.” The meeting brought together representatives from states, tribes, industry, environmental and public interest groups. As an outgrowth of discussions that took place at that meeting, EPA and ECOS agreed to form a joint EPA/State Action Team to develop an “Information Products Bulletin,” that would be published periodically. Through this initiative, EPA and the states can provide early notification of “significant information products” under development, and identify opportunities for stakeholder and public feedback during the development of certain products.

IV. Criteria for Including Products in the IPB

The IPB does not include a description of all EPA or state products, only those that are considered significant information products. The following draft criteria have been developed for determining which products developed by EPA and the states are “significant information products” and thus should be included in the IPB:

• Products that analyze and/or compare data from various agencies and organizations, including industry, as well as various federal, state, tribal and local agencies;

• Significant data collected by, acquired by, or directly reported to EPA from various agencies and organizations that EPA has not interpreted or analyzed;

• Products that describe or assess environmental conditions, trends, or risks;

• Products that apply to a large segment of the population or large geographic area;

• Models used by the public to perform environmental analyses based upon data from various agencies and organizations; and

• Those annual reports and other products released on a regular basis that describe environmental conditions, trends, risks, and/or portray compliance or performance.

Significant Information Products do NOT include:

• Action plans.

• Announcements.

• Annual reports that provide only broad, general information, program descriptions and/or accomplishments.

• Brochures.

• Chemical alerts.

• Citizen guides.

• Compliance guides.

• Conference summaries.

• Fact sheets.

• Journal articles.

• Policy statements.

• Press releases.

• Rulemakings and supporting documents (including guidance, directives, studies, etc.).

• Strategies, strategic plans.

• Training materials.

EPA and ECOS are interested in receiving comments on the above definition and whether its application will ensure the inclusion of information products of most interest to the public.

V. State Products Included in the IPB

The IPB will include some significant information products produced by the states and territories. Such products will be regional or national in scope and will include aggregated data from more than one state. While states will not provide a description of any individual state products, EPA may include products about one state, if the product is a prototype or concerns national issues, or the data reflect national or regional environmental conditions, risks, and/or trends.

VI. Interim Bulletin Website

The Interim Bulletin is an initial list of upcoming significant information products that was placed on EPA's website in September 2000, to provide the public pre-publication notification of such products prior to the release of the first, full IPB in 2001. The Interim Bulletin is a list only; it does not describe stakeholder or public involvement opportunities.

The Interim Bulletin:

• Notifies interested stakeholders and members of the public of soon-to-be released information products.

• Describes EPA significant information products only; no state products are included.

• Is available only on the Web, not in hard copy. (The full IPB will be available on the Web and in hard copy.)

VII. Stakeholder and Public Involvement Opportunities During the Development of EPA Significant Information Products

What is Stakeholder and Public Involvement?

The term public involvement refers to soliciting input and feedback from members of the public in the development of EPA and state products and policies. Stakeholder involvement refers to individuals who represent groups or specific segments of the public with a vested interest in the product or policy. Stakeholder involvement primarily includes representatives of an industry sector, community, government agency, non-governmental organizations (NGOs).

How Will the IPB Impact EPA's and States' Current Stakeholder and Public Involvement Processes?

The IPB will provide pre-publication notification of significant information products being developed by the EPA, as well as some states. The IPB also identifies, where possible, opportunities for stakeholders and the public to provide input into the development of these products. Procedures have already been established for obtaining stakeholder and public input for many significant information products. The IPB will not replace or duplicate existing stakeholder or public involvement processes associated with the development of EPA or state products. What the IPB does is provide a comprehensive vehicle for notifying the public of planned significant information products being developed by EPA, in addition to some state products. It also identifies stakeholder and public involvement processes that are currently underway or are planned for certain products.

It should be noted that it may not be practical or useful to provide an opportunity for stakeholder or public input for some products on the IPB list. Examples of such products are those produced on a routine or annual basis, or those that are technical, science-based documents that undergo a rigorous peer review process.

How Does the Stakeholder and Public Involvement Process Work?

Stakeholders and the public can become involved in the development of significant information products in different ways, depending upon the individual product. Different stakeholder and public involvement methods are used for each significant information product that incorporates stakeholder/public involvement. Such methods are described in Table 1 and 2 below. In considering which method(s) to use for any given product, EPA and states must consider the purpose of producing the product and the appropriate target audience, as well as available resources, time frame, and other possible limitations. For example, it might be more suitable to obtain stakeholder and public input through face-to-face meetings rather than through electronic communication mechanisms. In other cases, one or more electronic communication methods may reach a wider interested audience, and thus be a more effective means of getting feedback for a particular product. EPA and the states often use a combination of stakeholder and public involvement methods.

Table 1 below shows methods that EPA and the states use to present information on upcoming significant information products to stakeholders and the public. Table 2 below describes methods that EPA and many states use to collect comments on a specific product under development. Many of the methods described in both tables have been used routinely by EPA and many states for years. Others, particularly those utilizing electronic communication mechanisms, may not be used routinely but their use is growing.

Table 1: Stakeholder and Public Involvement Methods that EPA and the States Use to Collect Input for Significant Information Products—This May Vary From State to State
Stakeholder/public involvement method | Description
A. Public meetings | Information is presented about the product before a public gathering, often with a question and answer session.
B. Forums and workshops | Face-to-face discussions with stakeholders that generally allow for more in-depth discussion than public meetings.
C. Focus groups | Participants discuss (in a face-to-face format) potential users' likes and dislikes of the product, and generally offer suggestions for improvements. Participants often reflect the audience that the product targets.
D. Stakeholder meetings | Detailed discussions (face-to-face and/or meetings electronically, via telephone or video) with representatives of various government agencies and/or organizations, including industry, trade associations, environmental organizations, local elected officials, community activists, etc. that are likely to be impacted by the use of the product.
E. Stakeholder or expert consultation | Extended communication (through meetings, phone conversations, email, Fax or U.S. mail) with representatives of various government agencies and/or organizations regarding specific technical issues or data related to the product. These representatives are consulted briefly or for an extended period of time as subject experts who can provide essential input.
F. Surveys or questionnaires | Participants provide quantitative and/or qualitative input about a product from which key comments can be extrapolated.
G. Federal Register Notices | Official means to notify the public about a particular product, including a formal comment process with a set comment period. The Federal Register is printed daily by the U.S. Government.
H. Listservs and other e-mail communication methods | Electronic mechanisms used for describing a product to various stakeholders and potential product users.
I. Websites | Popular electronic tool that allows a product to be widely disseminated and accessible on the Internet. Also can be used to collect user comments through a back-end database or e-mail form.
J. Hotlines | EPA-supplied phone numbers that allow for direct answering of caller questions.
K. Public bulletin boards | Available electronically. Allows stakeholders and/or the public to submit questions and comments about a specific product.
L. Media advertisements | Advertises information about a specific product through print and/or electronic media. May be targeted to a general or specific audience. Can also be used to invite public comment on the product.
M. Information fact sheets and other similar materials | Highlights key aspects of a specific product to be highlighted. Can also be used to guide users on reviewing/commenting on the product. Often distributed at events like public meetings or displayed in libraries etc.
N. Mailings to various stakeholders | Information about a specific product sent through U.S. various mail to various stakeholders and potential product stakeholders users for information purposes and feedback.

Table 2: Response Mechanisms Used by EPA and the States—This May Vary From State to State

A. Verbal comments recorded during a public meeting, forum, workshop, focus group session or stakeholder meeting.

B. Telephone hotline.

C. Telephone survey/questionnaire.

D. Written comments submitted for a public meeting, forum, workshop, focus group session or stakeholder meeting.

E. Formal written comments sent to EPA in response to a Federal Register Notice.

F. Written comments sent to EPA by Fax, e-mail, listserv e-mail, or through e-mail to an electronic bulletin board.

G. Feedback forms located on websites.

H. Surveys and/or questionnaires sent through U.S. mail, e-mail or FAX.

The IPB will list the stakeholder and public involvement method(s) expected to be used for each of the products that provide opportunities for stakeholder/public involvement. Table 3 below provides a template that EPA and the states plan to use for each of the significant information products listed in the IPB.

Table 3: Information that will be Included in the IPB about Products that Provide an Opportunity for Stakeholder and/or Public Involvement

Title:

[The name of the significant information product. Please note that titles may be subject to change for some products under development.]

Description:

[A brief explanation that provides a basic understanding of the purpose and content of the significant information product.]

Contact:

[Phone number to use to get further information about the product and/or the stakeholder/public involvement process. When practical, a specific contact name will be listed and/or an e-mail address.]

Expected Release Date:

[When the product is expected to be made available to the public. Please note that such dates are the best estimates available to date; schedules are subject to change.]

Comment Period:

[The start and end date of the public comment period; OR the date that the comment period ends if the comment period has already begun. Please note that the public comment period may differ from the time frames provided for other types of stakeholder/public involvement.]

Stakeholder/Public Involvement Methods:

[The method(s) that EPA or the states plans to use to obtain stakeholder/public input and/or feedback on a specific significant information product—see examples of Stakeholder and Public Involvement Methods in Table 1 above.]

How to Access the Draft Product (if available):

[The various electronic and non-electronic ways that stakeholders and the public can use to access a draft copy and/or prototype of the product.]

At What Stage in the Development of a Product Can I Get Involved?

The timeframe for the development of each significant information product varies, and thus the time frame for obtaining public involvement varies as well. Some software models, for example, require early and close collaboration with one or more groups of stakeholders in order to produce an initial version of the product. Other products, such as technical or scientific reports, often require the use of a scientific peer review process before any stakeholder and/or public input may be obtained. In some cases, various methods of stakeholder/public involvement may be used during different stages of a product's development. Some input may be sought early in the development of a product to determine how best to meet the needs of the product's expected primary users. Then at a later stage in the product's development, it may be possible to obtain additional feedback on a draft copy or prototype of the product.

EPA and the states will provide information in the IPB about the timing of the product's development, along with the timeframe for submitting public comments. Information regarding specific dates for public meetings, workshops, forums, etc. may be obtained about specific products by contacting the number listed under each product description.

Can I View a Draft Copy or Prototype of Products Under Development?

Where possible, every effort will be made on the IPB website to include website links to draft copies and/or prototypes of EPA and some state products under development. Those without access to the Internet can obtain hard copies of draft products listed in the IPB by contacting the number listed for obtaining further information. Please note that there will not always be a draft copy or prototype available for every product under development.

VIII. Stakeholder and Public Involvement Opportunities for State Significant Information Products

The states generally use the same type of stakeholder and public involvement methods as EPA, which are described in Tables 1 and 2. While states may provide a range of opportunities for stakeholder and public involvement, not all opportunities listed in Tables 1 and 2 may be available in all states. As with EPA products, information regarding specific information and dates for public meetings, workshops, forums, etc. may be obtained, when available, about specific products through the contact information listed under appropriate product descriptions.

IX. IPB Publication Schedule

EPA and ECOS struggled with how best to ensure that those without access to the Internet would be able to access information on the IPB that is just as up to date as those with access to the Web. We are interested in receiving comments regarding the recommendation below.

Under the EPA/ECOS recommendation, the IPB would be available on the Web www.epa.gov/ipbpages and in hard copy format. Both the website and the hard copy would be fully updated every six months. In between the six-month publications, the website would be refreshed every three months with material that cannot wait for the next official update cycle. This might include incorporating a new product that has a short development time period, and/or correcting vital information (for example, a change in comment period dates) relating to an existing product in the IPB. A contact phone number would be provided for non-Web users to obtain information about any changes made to the IPB in between each six-month hard copy publication. When new or updated information is added to the IPB, it will be highlighted both in hard copy and on the website.

Dated: November 22, 2000
Elaine G. Stanley,
Director, Office of Information Analysis and Access.

[FR Doc. 00-30544 Filed 11-29-00; 8:45 am]

BILLING CODE 6560-50-P